DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Government Performance and Results Act (GPRA) Client/Participant Outcomes Measure—(OMB No. 0930-0208)—Revision

SAMHSA is requesting approval to add 13 new questions to its existing CSAT Client-level GPRA instrument. Grantees will only be required to answer no more than four additional questions, per CSAT grant awarded, in addition to the other questions on the instrument. Currently, the information collected from this instrument is entered and stored in SAMHSA's Performance Accountability and Reporting System, which is a real-time, performance management system that captures information on the substance abuse treatment and mental health services delivered in the United States. Continued approval of this information collection will allow SAMHSA to continue to meet Government Performance and Results Modernization Act of 2010 reporting requirements that quantify the effects and accomplishments of its discretionary grant programs, which are consistent with OMB guidance.

SAMHSA and its Centers will use the data for annual reporting required by GPRA and comparing baseline with discharge and follow-up data. GPRA requires that SAMHSA's fiscal year report include actual results of performance monitoring for the three preceding fiscal years. The additional information collected through this process will allow SAMHSA to: (1) Report results of these performance outcomes; (2) maintain consistency with SAMHSA-specific performance domains, and (3) assess the accountability and performance of its discretionary and formula grant programs.

Table 1—Estimates of Annualized Hour Burden
SAMHSA tool | Number of respondents | Responses per respondent | Total number of responses | Burden hours per response | Total burden hours
Baseline Interview Includes SBIRT Brief TX, Referral to TX, and Program-specific questions | 179,668 | 1 | 179,668 | 0.60 | 107,801
Follow-Up Interview with Program-specific questions ¹ | 143,734 | 1 | 143,734 | 0.60 | 86,240
Discharge Interview with Program-specific questions ² | 93,427 | 1 | 93,427 | 0.60 | 56,056
SBIRT Program—Screening Only | 594,192 | 1 | 594,192 | 0.13 | 77,245
SBIRT Program—Brief Intervention Only Baseline | 111,411 | 1 | 111,411 | .20 | 22,282
SBIRT Program—Brief Intervention Only Follow-Up ¹ | 89,129 | 1 | 89,129 | .20 | 17,826
SBIRT Program—Brief Intervention Only Discharge ² | 57,934 | 1 | 57,934 | .20 | 11,587
CSAT total | 885,271 |  | 1,269,495 |  | 379,037
Note: Numbers may not add to the totals due to rounding and some individual participants completing more than one form.
¹ It is estimated that 80% of baseline clients will complete this interview.
² It is estimated that 52% of baseline clients will complete this interview.

Written comments and recommendations concerning the proposed information collection should be sent by September 20, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-18023 Filed 8-20-18; 8:45 am]

BILLING CODE 4162-20-P